FOREIGN CLAIMS SETTLEMENT COMMISSION

[F.C.S.C. Meeting and Hearing Notice No. 5-11]

Sunshine Act Meeting

The Foreign Claims Settlement Commission, pursuant to its regulations (45 CFR 503.25) and the Government in the Sunshine Act (5 U.S.C. 552b), hereby gives notice in regard to the scheduling of oral hearings, as follows:

Thursday, July 21, 2011 10 a.m. Claim No. LIB-I-006; 10:45 a.m. Claim No. LIB-II-003; 1 p.m. Claim No. LIB-I-017; 1:45 p.m. Claim No. LIB-I-015; 2:30 p.m. Claim No. LIB-I-016; 3:15 p.m. Claim No. LIB-I-007; 4 p.m. Claim No. LIB-II-007

Friday, July 22, 2011 10 a.m. Claim No. LIB-II-001; 10:45 a.m. Claim No. LIB-II-002; 11:30 a.m. Claim No. LIB-II-004; 1 p.m. Claim No. LIB-II-012; 1:45 p.m. Claim No. LIB-II-013; 2:30 p.m. Claim No. LIB-II-028.

Status: Open.

All meetings are held at the Foreign Claims Settlement Commission, 600 E Street, NW., Washington, DC. Requests for information, or advance notices of intention to observe an open meeting, may be directed to: Judith H. Lock, Executive Officer, Foreign Claims Settlement Commission, 600 E Street, NW., Suite 6002, Washington, DC 20579. Telephone: (202) 616-6975.

Judith H. Lock,
Executive Officer.

[FR Doc. 2011-17632 Filed 7-8-11; 4:15 pm]

BILLING CODE 4410-BA-P